DEPARTMENT OF COMMERCE

International Trade Administration

[A-558-804, A-559-801]

Ball Bearings and Parts Thereof From Japan and Singapore; Five-Year Sunset Reviews of Antidumping Duty Orders; Preliminary Results

AGENCY: Import Administration, International Trade Administration, Department of Commerce.

SUMMARY: On June 1, 2005, the Department of Commerce (the Department) initiated a sunset review of the antidumping duty orders on ball bearings from Japan and Singapore. On the basis of the notice of intent to participate and adequate substantive responses and rebuttal comments filed on behalf of the domestic and respondent interested parties, the Department is conducting a full sunset review of the antidumping duty orders pursuant to section 751(c) of the Tariff Act of 1930, as amended (the Act), and 19 CFR 351.218(e)(2)(i). As a result of these sunset reviews, the Department preliminarily finds that revocation of the antidumping duty orders would likely lead to continuation or recurrence of dumping at the levels listed below in the section entitled “Preliminary Results of Reviews.”

EFFECTIVE DATE: December 28, 2005.

FOR FURTHER INFORMATION CONTACT: Zev Primor or Fred Aziz, Office 5, AD/CVD Operations, Import Administration, International Trade Administration, U.S. Department of Commerce, 14th Street & Constitution Avenue, NW., Washington, DC 20230; telephone: 202-482-4114 or (202) 482-4023, respectively.

SUPPLEMENTARY INFORMATION:

Background

On June 1, 2005, the Department published the notice of initiation of the second sunset reviews of the antidumping duty orders on ball bearings from Japan and Singapore. See Initiation of Five-year (“Sunset”) Reviews, 70 FR 31423 (June 1, 2005). The Department received the Notice of Intent to Participate from the Timken Company, Pacamor Kubar Bearings, RBC Bearings (Collectively, “the domestic interested parties”), NSK Corporation, and American NTN Bearing Manufacture Corporation (NTN USA) within the deadline specified in 19 CFR 351.218(d)(1)(i). NSK Corp. and NTN USA claimed interested-party status under section 771(9)(C) of the Act as a manufacturer, producer, or wholesaler of the subject merchandise in the United States. We received complete substantive responses from the domestic interested parties within the 30-day deadline specified in 19 CFR 351.218(d)(3)(i). NSK Corp. and NTN USA filed complete substantive responses within the statutory deadlines.

We received complete substantive responses from the following foreign producers of the subject merchandise within the 30-day deadline specified in 19 CFR 351.218(d)(3)(I): Japan—Koyo Seiko Co. Ltd. and Koyo Corporation USA (collectively Koyo), NTN Corporation and NTN USA (collectively NTN), and NSK Ltd. and NSK Corp. (collectively NSK) (collectively, the respondents); Singapore—NMB/Pelmec.

We received rebuttal comments form the domestic interested parties and the respondents within the proper deadlines as specified in 19 CFR 351.218(d)(4). On September 12, 2005, the Department sent a letter to the respondents asking them to resubmit their substantive responses in order to revise the treatment of certain business-proprietary and public information. We also asked the domestic interested parties to re-submit their rebuttal comments to the respondents' revised responses. The respondents filed their revised substantive responses on September 15, 2005, and the domestic interested parties filed their revised substantive rebuttals on September 27, and October 12, 2005. Based on the responses received from interested parties, pursuant to section 751(c)(3)(B) of the Act and 19 CFR 351.218(e)(2)(i), the Department has conducted full (240-day) sunset reviews of these orders.

19 CFR 351.218(e)(1)(ii)(A) provides that the Secretary normally will conclude that respondent interested parties have provided adequate response to a notice of initiation where the Department receives complete substantive responses from respondent interested parties accounting on average for more than 50 percent, by volume, or value basis, if appropriate, of the total exports of the subject merchandise to the United States over the five calendar years preceding the year of publication of the notice of initiation. On July 21, 2005, the Department released its adequacy determination and found that the respondent interested parties accounted for more than 50 percent of exports by volume of the subject merchandise from Japan and Singapore to the United States. For more information, see Adequacy Determination Memorandum from the Sunset Team to Laurie Parkhill, dated July 21, 2005. In accordance with 19 CFR 351.218(e)(2)(i), the Department determined to conduct full sunset reviewed of these antidumping duty orders. The final results in the full sunset review of these antidumping duty orders are scheduled on or before January 27, 2006.

Scope of the Orders

The products covered by these orders are ball bearings and parts thereof. These products include all bearings that employ balls as the rolling element. Imports of these products are classified under the following categories: antifriction balls, ball bearings with integral shafts, ball bearings (including radial ball bearings) and parts thereof, and housed or mounted ball bearing units and parts thereof.

Imports of these products are classified under the following Harmonized Tariff Schedule of the United States (HTSUS) subheadings: 3926.90.45, 4016.93.00, 4016.93.10, 4016.93.50, 6909.19.5010; 8431.20.00, 8431.39.0010, 8482.10.10, 8482.10.50, 8482.80.00, 8482.91.00, 8482.99.05, 8482.99.2580, 8482.99.35, 8482.99.6595, 8483.20.40, 8483.20.80, 8483.50.8040, 8483.50.90, 8483.90.20, 8483.90.30, 8483.90.70, 8708.50.50, 8708.60.50, 8708.60.80, 8708.70.6060, 8708.70.8050, 8708.93.30, 8708.93.5000, 8708.93.6000, 8708.93.75, 8708.99.06, 8708.99.31, 8708.99.4960, 8708.99.50, 8708.99.5800, 8708.99.8080, 8803.10.00, 8803.20.00, 8803.30.00, 8803.90.30, and 8803.90.90.

Although the HTSUS subheadings above are provided for convenience and customs purposes, written descriptions of the scopes of these orders remain dispositive.

Analysis of Comments Received

All issues raised in this sunset review are addressed in the “Issues and Decision Memorandum” from Stephen J. Claeys, Deputy Assistant Secretary for Import Administration, to Joseph A. Spetrini, Acting Assistant Secretary for Import Administration, dated December 19, 2005 (Decision Memo), which is hereby adopted by this notice. The issues discussed in the Decision Memo include the likelihood of continuation or recurrence of dumping and the magnitude of the margin likely to prevail if the antidumping duty orders were revoked. Parties can find a complete discussion of all issues raised in these sunset reviews and the corresponding recommendations in this public memorandum, which is on file in room B-009 of the main Department building.

In addition, a complete version of the Decision Memo can be accessed directly on the Web at http://ia.ita.doc.gov/frn, under the heading “December 2005.” The paper copy and electronic version of the Decision Memo are identical in content.

Preliminary Results of Reviews

The Department preliminarily determines that revocation of the antidumping duty orders on ball bearings from Japan and Singapore is likely to lead to continuation or recurrence of dumping at the following weighted-average margins:

—
Manufacturers/exporters/producers | Weighted-average margin (percent)
Japan:
Koyo Seiko Co., LtD | 73.55
Minebea Co., Ltd | 106.61
Nachi-Fujikoshi Corp | 48.69
NSK Ltd | 42.99
NTN Corp | 21.36
All Other Japanese Manufacturers/Explorters/Producers | 45.83
Singapore:
NMB/Pelmec | 25.08
All Other Singaporean Manufacturers/Exporters/Producers | 25.08

Any interested party may request a hearing within 30 days of publication of this notice in accordance with 19 CFR 351.310(c). Interested parties may submit case briefs no later than 30 days after the date of publication of this notice, in accordance with 19 CFR 351.309(c)(1)(i). Rebuttal briefs, which must be limited to issues raised in the case briefs, may be filed no later than 5 days after the case briefs, in accordance with 19 CFR 351.309(d)(1). Any hearing, if requested, will be held two days after rebuttal briefs are due, in accordance with 19 CFR 351.310(d)(1). The Department will issue a notice of final results of these sunset reviews, which will include the results of its analysis of issues raised in any such briefs, no later than January 27, 2006.

We are issuing and publishing these results and notice in accordance with sections 751(c), 752, and 777(i)(1) of the Act.

Dated: December 19, 2005.
Stephen J. Claeys,
Acting Assistant Secretary for Import Administration.

[FR Doc. 05-24510 Filed 12-27-05; 8:45am]

BILLING CODE 3510-DS-M